DEPARTMENT OF COMMERCE

National Oceanic and Atmospheric Administration

50 CFR Part 600

[I.D. 021401B]

Magnuson-Stevens Act Provisions; General Provisions for Domestic Fisheries; Applications for Exempted Fishing Permits (EFPs)

AGENCY: National Marine Fisheries Service (NMFS), National Oceanic and Atmospheric Administration (NOAA), Commerce.

ACTION: Notification of a proposal for EFPs to conduct experimental fishing; request for comments.

SUMMARY: NMFS announces that the Administrator, Northeast Region, NMFS (Regional Administrator), has made a preliminary determination to approve an application for an EFP that would allow up to 12 vessels to conduct fishing operations otherwise restricted by regulations governing the fisheries of the Northeastern United States. The Gulf of Maine Aquarium Development Corporation and Maine Department of Marine Resources have submitted an application for an EFP that warrants further consideration. The experimental fishery to be conducted under the EFP would investigate the bycatch of multispecies and catch of northern shrimp in Gulf of Maine waters that are not currently open to this fishery. The goal of the research is to determine whether a shrimp fishery can be conducted southeast of the Loran 25600 line within acceptable multispecies bycatch limits in order to provide additional economic opportunity to the shrimp fleet and alleviate fishing pressure on shrimp in nearshore waters. This notice is intended to provide interested parties the opportunity to comment on the proposed experimental fishery.

DATES: Comments must be received by March 14, 2001.

ADDRESSES: Comments should be sent to Patricia Kurkul, Regional Administrator, NMFS, Northeast Regional Office, 1 Blackburn Drive, Gloucester, MA 01930. Mark on the outside of the envelope “Comments on Proposed Experimental Fishery.” Comments also may be sent via facsimilar (fax) to 978-281-9135. Comments will not be accepted if submitted via e-mail or Internet.

FOR FURTHER INFORMATION CONTACT: Tom Warren, Fishery Management Specialist, 978-281-9347.

SUPPLEMENTARY INFORMATION: The regulations that govern exempted experimental fishing, at 50 CFR 600.745, allow the Regional Administrator to authorize for certain purposes the targeting or incidental harvest of managed species that would otherwise be prohibited. An EFP to authorize such activity may be issued, provided that there is adequate opportunity for the public to comment on the EFP application, and that the conservation goals and objectives of the Fishery Management Plan are not compromised.

The Gulf of Maine Aquarium Development Corporation of Portland, Maine (ME), and the Maine Department of Marine Resources of Boothbay Harbor, ME submitted to NMFS on November 2, 2000, an application for an EFP to conduct research in the northern shrimp fishery in the Gulf of Maine. The research would target shrimp southeast of the area in which fishing is currently allowed, with the objective of determining whether a shrimp fishery can be conducted within acceptable multispecies bycatch limits. The underlying goal of the research is to provide additional economic opportunity to the northern shrimp fleet and alleviate fishing pressure on shrimp in nearshore waters.

The Northeast Multispecies Fishery Management Plan (FMP) regulations specify minimum fishing gear mesh sizes in the Gulf of Maine/Georges Bank (GOM/GB) Regulated Mesh Area in order to protect multispecies. There are several exemptions, however, that allow fisheries that utilize mesh size smaller than the allowable to be conducted in this area. One of the exemptions to the GOM/GB Regulated Mesh Area is the Small Mesh Northern Shrimp Fishery Exemption Area, which allows the targeting of northern shrimp. One of the principle requirements associated with this exemption area is a requirement to use a finfish excluder device (FED) to ensure a minimal level of multispecies bycatch. Justification of the Small Mesh Northern Shrimp Fishery Exemption Area was based upon the testing of the Nordmore Grate, a FED that was tested from 1991 to 1992, in the Gulf of Maine northwest of the Loran 25600 line. Based upon those experimental trawls, the Small Mesh Northern Shrimp Fishery Exemption Area was implemented, with the border being formed in part by the Loran 25600 line.

Based on results from the experimental fishery, the Small Mesh Northern Shrimp Fishery Exemption Area could be expanded if there is information to determine that the percentage of regulated species caught as bycatch is sufficiently small, on a per trip basis, such that fishing mortality objectives of the FMP will not be jeopardized.

According to the applicant, up to 12 vessels would be issued EFPs to allow targeting of shrimp using small mesh on 12, 3-day trips from April 15 through May 31, 2001. A contractor for sea sampling will be selected through the “Request for Proposal” process, and observers will accompany all trips. For the first half of each trip, the nets will be consistent with the requirements of the Small Mesh Northern Shrimp Fishery Exemption Area (FED with 1-inch maximum spacing). For the second half of each trip, the nets will contain a 3/4-inch (0.01905-m)-spaced Nordmore grate. At some time during each of the first 2 days of each trip, vessels will make a one half-hour tow with no grate in the net to serve as a control tow. When six trips (18 days) of fishing have been completed, the rate of groundfish bycatch will be estimated and submitted to NMFS. Depending upon the level of bycatch, the experiment will either be terminated, continue unaltered, or continue under new procedures (using only the 3/4-inch (0.01905-m)-spaced grate).

EFPs would be required to exempt vessels from certain management measures of the FMP, including the time, area, and FED restrictions of the Small Mesh Northern Shrimp Fishery Exemption Area, and Gulf of Maine Rolling Closures.

Authority: 16 U.S.C. 1801 et seq.

Dated: February 20, 2001.
Richard W. Surdi,
Acting Director, Office of Sustainable Fisheries, National Marine Fisheries Service.

[FR Doc. 01-4689 Filed 2-26-01; 8:45 am]

BILLING CODE 3510-22-S